DEPARTMENT OF ENERGY

Federal Energy Regulatory Commission

[Docket No. ER01-602-010, et al.]

Southern Electric Generation Company, et al.; Electric Rate and Corporate Regulation Filings

August 21, 2001.

Take notice that the following filings have been made with the Commission:

1. Southern Electric Generation Co.

[Docket No. ER01-602-010 and ER01-1773-002]

Take notice that on August 16, 2001, Southern Electric Generation Company tendered for filing substitute original SEGCO FERC Rate Schedule Vol. 1 in compliance with the formatting requirements of Commission Order No. 614.

Comment date: September 6, 2001, in accordance with Standard Paragraph E at the end of this notice.

2. Southern Company Services, Inc.

[Docket Nos. ER01-602-011]

Take notice that on August 16, 2001, in compliance with Commission letter orders dated January 21, 2001 and June 1, 2001, Southern Company Services, Inc. (SCS), as agent for Alabama power Company, Georgia Power Company, Gulf Power Company, Mississippi Power Company and Savannah Electric and Power Company (collectively, Southern Companies), tendered for filing rate schedules and/or associated sheets compliant with Commission Order No. 614 for certain Southern Companies Rate Schedules. These Rate Schedules are Georgia Power First Revised Rate Schedule FERC Nos. 824, 825, 826, 836, 837 and 838; Gulf Power Company First Revised Rate Schedule FERC Nos. 82 and 84; Mississippi Power Company First Revised Rate Schedule FERC No. 135 and Southern Operating Companies First Revised Rate Schedule FERC Nos. 47, 70 and 93.

Comment date: September 6, 2001, in accordance with Standard Paragraph E at the end of this notice.

3. Entergy Services, Inc.

[Docket No. ER01-611-001]

Take notice that on August 15, 2001, Entergy Services, Inc., on behalf of Entergy Arkansas, Inc., tendered for filing its compliance filing in the above-captioned docket, including the First Revised Rate Schedule No. 98, dated August 1, 2001.

Comment date: September 5, 2001, in accordance with Standard Paragraph E at the end of this notice.

4. Puget Sound Energy, Inc.

[Docket No. ER01-2149-001]

Take notice that on August 16, 2001, Puget Sound Energy, Inc. (PSE) tendered for filing a blanket Service Agreement for Retail Network Integration Transmission Service, a blanket Retail Network Operating Agreement, and proposed Schedule 4R for PSE's Open Access Transmission Tariff (OATT). By order dated July 11, 2001, the Division of Tariffs and Rates—West, accepted the filing upon delegated authority and directed PSE to resubmit the schedules with the rate schedule designations required by Commission Order 614.

Comment date: September 6, 2001, in accordance with Standard Paragraph E at the end of this notice.

5. Illinois Power Company

[Docket No. ER01-2188-001]

Take notice that on August 17, 2001, Illinois Power Company (Illinois Power), 500 South 27th Street, Decatur, Illinois 65251-2200, filed with the Commission a service agreement designation and restated service agreement as required by Order No. 614 and the Letter Order issued on July 25, 2001 in this docket.

Comment date: September 6, 2001, in accordance with Standard Paragraph E at the end of this notice.

6. Xcel Energy Operating Companies

[Docket No. ER01-2207-004]

Take notice that on August 16, 2001, the Xcel Energy Operating Companies (Xcel Energy) submitted for filing the following compliance revisions to their Joint Open Access Transmission Tariff (Joint OATT), First Revised Volume No. 1, First Revised Sheet No. 27, First Revised Sheet No. 34, and First Revised Sheet No. 64.

Pursuant to the Commission order (Order) issued July 25, 2001, in the above-referenced docket, Xcel Energy requests that the Commission accept the changes effective July 16, 2000, the date the Commission accepted as the effective date for MAPP's filing in the Order. Xcel Energy requests waiver of the Commission's notice requirements in order for the changes to be accepted for filing on the date requested.

Comment date: September 6, 2001, in accordance with Standard Paragraph E at the end of this notice.

7. ALLETE, Inc. d/b/a Minnesota Power

[Docket No. ER01-2207-005]

Take notice that on August 16, 2001, ALLETE, Inc., d/b/a Minnesota Power provided notice to the Commission that ALLETE, Inc., d/b/a Minnesota Power adopts the Mid-Continent Area Power Pool (MAPP) Transmission Loading Relief (TLR) procedures for curtailments of firm transmission, including generation to load service to comply with the Commission's orders in Docket No. ER01-2207-000, in which the Commission accepted the Mid-Continent Area Power Pool's (MAPP) filing, amending Schedule F, to migrate fully to the NERC Transmission Loading Relief Procedure (TLR) for all purposes for which the MAPP Line Loading Relief Procedure (LLR) was formerly used. ALLETE, Inc., d/b/a Minnesota Power attached to its notice modifications to its open access transmission tariff to incorporate TLR.

Comment date: September 6, 2001, in accordance with Standard Paragraph E at the end of this notice.

8. Xcel Energy Services Inc.

[Docket No. ER01-2357-001]

Take notice that on August 17, 2001, Xcel Energy Services Inc. (XES), on behalf of Southwestern Public Service Company (Southwestern), submitted for filing an Order 614 compliant version of a Transaction Agreement and Master Power Sale Agreement (Master Agreement) between Southwestern and Midwest Energy, Inc., The Master Agreement is an umbrella service agreement under Southwestern's Rate Schedule for Market-Based Power Sales (FERC Electric Tariff, Second Revised Volume No. 3).

Comment date: September 7, 2001, in accordance with Standard Paragraph E at the end of this notice.

9. New England Power Company

[Docket No. ER01-2366-001]

Take notice that on August 14, 2001, New England Power Company (NEP) submitted for filing an amendment to its previous filing in the above captioned docket. The amendment redesignates a proposed rate schedule as Original Service Agreement No. 206 under NEP's FERC Electric Tariff, Second Revised Volume No. 9.

NEP states that a copy of this filing has been served upon each of the parties that was served by NEP in Docket No. ER01-2366-000.

Comment date: September 4, 2001, in accordance with Standard Paragraph E at the end of this notice.

10. American Transmission Company LLC

[Docket No. ER01-2727-001]

Take notice that on August 15, 2001, American Transmission Company LLC (ATCLLC) tendered for filing a revised Exhibit 1 to the Distribution-Transmission Interconnection Agreement (First Revised Service Agreement No. 184) between ATCLLC and Upper Peninsula Power Company. ATCLLC requests an effective date of June 29, 2001.

Comment date: September 5, 2001, in accordance with Standard Paragraph E at the end of this notice.

11. Cinergy Services, Inc.

[Docket No. ER01-2838-000]

Take notice that Cinergy Services, Inc. (Cinergy) and the Village of Blanchester, Ohio (Blanchester), on August 13, 2001, are submitting a revised Confirmation Letter of Cinergy's Market-Based Power Sales Tariff Original Volume No. 7-MB, Service Agreement No. 253, dated December 1, 2000.

Cinergy and Blanchester are requesting an effective date of September 1, 2001.

Comment date: September 4, 2001, in accordance with Standard Paragraph E at the end of this notice.

12. Niagara Mohawk Power Corporation

[Docket No. ER01-2839-000]

Take notice that on August 14, 2001, Niagara Mohawk Power Corporation (NMPC), pursuant to Section 205 of the Federal Power Act and Part 35 of the Commission's regulations, tendered for filing and Commission acceptance a Power Purchase and Sale Agreement under which generally NMPC will (1) sell to Tractebel the power that NMPC receives under various of its supply contracts and (2) designate Tractebel as the representative and agent of NMPC for the administration of those supply contracts. NMPC contemplates an effective date of October 1, 2001.

Comment date: September 4, 2001, in accordance with Standard Paragraph E at the end of this notice.

13. PPL Electric Utilities Corporation

[Docket No. ER01-2841-000]

Take notice that on August 14, 2001, PPL Electric Utilities Corporation (PPL Electric Utilities) tendered for filing an Interconnection Agreement between PPL Electric Utilities and the City of Allentown, Pennsylvania.

Comment date: September 4, 2001, in accordance with Standard Paragraph E at the end of this notice.

14. Virginia Electric and Power Company

[Docket No. ER01-2842-000]

Take notice that Virginia Electric and Power Company (the Company) on August 14, 2001, tendered for filing the following Service Agreement by Virginia Electric and Power Company to CMS Marketing, Services and Trading Company, designated as Service Agreement No. 4, under the Company's short-form market-based rate tariff, FERC Electric Tariff, Original Volume No. 6.

The foregoing Service Agreement is tendered for filing under the Company's short-form market-based rate tariff, FERC Electric Tariff, Original Volume No. 6, effective on June 15, 2000. The Company requests an effective date of July 26, 2001.

Copies of the filing were served upon CMS Marketing, Services and Trading Company, the Virginia State Corporation Commission, and the North Carolina Utilities Commission.

Comment date: September 4, 2001, in accordance with Standard Paragraph E at the end of this notice.

15. Cambridge Electric Light Company

[Docket No. ER01-2843-000]

Take notice that on August 13, 2001, Cambridge Electric Light Company filed tariff sheets to correct an inadvertent deletion from the Appendix H rate formula in its open access transmission tariff.

Comment date: September 4, 2001, in accordance with Standard Paragraph E at the end of this notice.

16. PECO Energy Company, Commonwealth Edison Company, Exelon Generation Company, LLC

[Docket No.ER01-2846-000]

Take notice that on August 13, 2001, PECO Energy Company, Commonwealth Edison Company, and Exelon Generation Company, LLC, submitted a supplement to their joint application filed in the captioned docket in June 29, 2001.

Comment date: September 4, 2001, in accordance with Standard Paragraph E at the end of this notice.

17. Florida Power Corporation

[Docket No. ER01-2848-000]

Take notice that on August 16, 2001, Florida Power Corporation (FPC) tendered for filing Service Agreements for Short-Term Firm and Non-Firm Point-to-Point Transmission Service with Exelon Generation Company, LLC. Service to this Eligible Customer will be in accordance with the terms and conditions of the Open Access Transmission Tariff filed on behalf of FPC.

FPC is requesting an effective date of September 1, 2001 for the Service Agreements.

A copy of the filing was served upon the Florida Public Service Commission.

Comment date: September 6, 2001, in accordance with Standard Paragraph E at the end of this notice.

18. Carolina Power & Light Company

[Docket No. ER01-2849-000]

Take notice that on August 16, 2001, Carolina Power & Light Company (CP&L) tendered for filing Service Agreements for Short-Term Firm and Non-Firm Point-to-Point Transmission Service with Exelon Generation Company, LLC. Service to this Eligible Customer will be in accordance with the terms and conditions of the Open Access Transmission Tariff filed on behalf of CP&L.

CP&L is requesting an effective date of September 1, 2001 for the Service Agreements.

Copies of the filing were served upon the North Carolina Utilities Commission and the South Carolina Public Service Commission.

Comment date: September 6, 2001, in accordance with Standard Paragraph E at the end of this notice.

19. Southern Company Services, Inc.

[Docket No. ER01-2854-000]

Take notice that on August 16, 2001, Southern Company Services, Inc. (SCS), acting on behalf of Alabama Power Company, Georgia Power Company, Gulf Power Company, Mississippi Power Company, and Savannah Electric and Power Company (collectively Southern Companies), filed Amendment No. 2 to the Agreement for Network Integration Transmission Service for Alabama Electric Cooperative, Inc. under Southern Companies Open Access Transmission Tariff to Add Delivery Points. Amendment No. 2 provides that transmission service under the referenced service agreement (Service Agreement No. 225 under Southern Companies Open Access Transmission Tariff (FERC Electric Tariff Original Volume No. 5) is to be provided at two (2) new delivery points. Additionally, Amendment No. 2 specifies the estimated Direct Assignment Facility Charges for these additional delivery points.

Comment date: September 6, 2001, in accordance with Standard Paragraph E at the end of this notice.

20. Virginia Electric and Power Company

[Docket No. ER01-2855-000]

Take notice that on August 16, 2001, Virginia Electric and Power Company (Dominion Virginia Power) tendered for filing Notices of Termination of Service Agreements with Engage Energy US L.P. for Non-Firm and Firm Point-To-Point Transmission Service designated respectively as First Revised Service Nos. 147 and 177 under FERC Electric Tariff, Second Revised Volume No. 5.

Dominion Virginia Power also respectfully requests a waiver of the Commission's regulations to permit a retroactive effective date of May 8, 2001, as requested by the customer.

Copies of the filing were served upon El Paso Merchant Energy, L.P. (originally Engage Energy US L.P.), the Virginia State Corporation Commission and the North Carolina Utilities Commission.

Comment date: September 6, 2001, in accordance with Standard Paragraph E at the end of this notice.

21. Virginia Electric and Power Company

[Docket No. ER01-2856-000]

Take notice that on August 16, 2001, Virginia Electric and Power Company (Dominion Virginia Power) tendered for filing Notices of Termination of Service Agreements with Columbia Energy Power Marketing Corporation for Non-Firm and Firm Point-To-Point Transmission Service designated respectively as First Revised Service Nos. 196 and 197 under FERC Electric Tariff, Second Revised Volume No. 5.

Dominion Virginia Power respectfully requests an effective date of the termination of the Service Agreements of October 15, 2001.

Copies of the filing were served upon Enron Power Marketing, Inc., the Virginia State Corporation Commission and the North Carolina Utilities Commission.

Comment date: September 6, 2001, in accordance with Standard Paragraph E at the end of this notice.

22. Public Service Company of Oklahoma

[Docket No. ER01-2857-000]

Take notice that on August 16, 2001, Public Service Company of Oklahoma (PSO) tendered for filing an executed Restated and Amended Interconnection Agreement, dated July 26, 2001, between PSO and Kiowa Power Partners, LLC (Kiowa). The July 26, 2001 Interconnection Agreement supersedes all existing interconnection and interchange agreements between PSO and Kiowa.

PSO requests an effective date of October 15, 2001.

Copies of this filing has been served upon Kiowa and the Oklahoma Corporation Commission.

Comment date: September 6, 2001, in accordance with Standard Paragraph E at the end of this notice.

23. Southern California Edison Company

[Docket No. ER01-2858-000]

Take notice that on August 16, 2001, Southern California Edison Company (SCE) tendered for filing under SCE's Wholesale Distribution Access Tariff a Service Agreement for Wholesale Distribution Service and an Interconnection Facilities Agreement (collectively, Agreements) between SCE and the County Sanitation Districts of Los Angeles (CSDLA).

These Agreements specify the terms and conditions under which SCE will interconnect CSDLA's generating facility to its electrical system and provide Distribution Service for up to 8 MW of power produced by the generating facility.

SCE respectfully requests the Agreements to become effective August 17, 2001.

Copies of this filing were served upon the Public Utilities Commission of the State of California and CSDLA.

Comment date: September 6, 2001, in accordance with Standard Paragraph E at the end of this notice.

24. Carolina Power & Light Company

[Docket No. ER01-2859-000]

Take notice that on August 16, 2001, Carolina Power & Light Company (CP&L) tendered for filing an executed Service Agreement between CP&L and the following eligible buyer, Duke Power, a division of Duke Energy Corporation. Service to this eligible buyer will be in accordance with the terms and conditions of CP&L's Market-Based Rates Tariff, FERC Electric Tariff No. 4, for sales of capacity and energy at market-based rates.

CP&L requests an effective date of June 1, 2002 for this Service Agreement.

Copies of the filing were served upon the North Carolina Utilities Commission and the South Carolina Public Service Commission.

Comment date: September 6, 2001, in accordance with Standard Paragraph E at the end of this notice.

25. PJM Interconnection, L.L.C

[Docket No. ER01-2860-000]

Take notice that on August 16, 2001, PJM Interconnection, L.L.C. (PJM), tendered for filing: (i) an executed agreement for non-firm point-to-point transmission service with Exelon Generation Company, L.L.C. (Exelon); (ii) an executed agreement for firm point-to-point transmission service for WPS Energy Services (WPS); and (iii) an executed agreement for non-firm point-to-point transmission service for WPS.

Copies of this filing were served upon Exelon, WPS and the state commissions within the PJM control area.

The requested effective date for the service agreements is July 31, 2001.

Comment date: September 6, 2001, in accordance with Standard Paragraph E at the end of this notice.

26. Mirant Americas Energy Marketing, LP

[Docket No. ER01-2861-000]

Take notice that on August 16, 2001, Mirant Americas Energy Marketing, LP (Mirant Americas) filed an application to amend its Market-Based Tariff, on file with the Commission in Docket No. ER01-1265-001 to permit Mirant Americas to sell, reassign, or transfer transmission capacity rights in accordance with Order Nos. 888 and 888-A.

Mirant Americas requests that the Rate Schedule become effective August 17, 2001.

Comment date: September 6, 2001, in accordance with Standard Paragraph E at the end of this notice.

27. Rathdrum Power LLC

[Docket No. ER01-2862-000]

Take notice that on August 17, 2001, Rathdrum Power LLC tendered for filing with the Federal Energy Regulatory Commission (Commission) under its market-based rate tariff a long-term service agreement between Rathdrum Power LLC and Avista Energy, Inc., as assigned to Avista Turbine Power, Inc.

Comment date: September 7, 2001, in accordance with Standard Paragraph E at the end of this notice.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary

[FR Doc. 01-21547 Filed 8-24-01; 8:45 am]

BILLING CODE 6717-01-P